DEPARTMENT OF COMMERCE

National Oceanic and Atmospheric Administration

[I.D. 050107F]

Pacific Fishery Management Council; Public Meeting

AGENCY: National Marine Fisheries Service (NMFS), National Oceanic and Atmospheric Administration (NOAA), Commerce.

ACTION: Notice of a public meeting.

SUMMARY: The Pacific Fishery Management Council's (Council) Salmon Technical Team Klamath Subcommittee (STTKS) will hold a meeting with members of the Yurok and Hoopa Tribes and additional agency personnel from the National Marine Fisheries Service and the California Department of Fish and Game to initiate planning and assignments for developing an overfishing review for Klamath River fall Chinook (KRFC). This meeting of the STTKS is open to the public.

DATES: The meeting will be held Wednesday, May 23, 2007, from 8:30 a.m. to 4 p.m.

ADDRESSES: The meeting will be held at the California Department of Fish and Game office, located at 474 Aviation Blvd., Suite 130, Santa Rosa, CA 95403.

Council address: Pacific Fishery Management Council, 7700 NE Ambassador Place, Suite 101, Portland, OR 97220-1384.

FOR FURTHER INFORMATION CONTACT: Mr. Chuck Tracy, Salmon Management Staff Officer, Pacific Fishery Management Council; telephone: (503) 820-2280.

SUPPLEMENTARY INFORMATION: The purpose of the meeting is to develop a set of topics and assignments to assess the cause of KRFC failing to meet the 35,000 adult spawner conservation objective, and the implication to the long-term productivity of the stock of not meeting that objective, for three consecutive years.

When a salmon stock managed by the Council fails to meet its conservation objective for three consecutive years an overfishing concern is triggered according to the terms of the Pacific Coast Salmon Plan (Salmon Plan). The Salmon Plan requires the Council to direct its Salmon Technical Team to work with relevant agency and tribal personnel to undertake a review of the status of the stock in question and determine if excessive harvest was responsible for the shortfall, if other factors were involved, and the significance of the stock depression with regard to achieving maximum sustainable yield.

Although non-emergency issues not contained in the meeting agenda may come before the STTKS for discussion, those issues may not be the subject of formal action during this meeting. Action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Ms. Carolyn Porter at (503) 820-2280 at least 5 days prior to the meeting date.

Dated: May 1, 2007.
Tracey L. Thompson,
Acting Director, Office of Sustainable Fisheries, National Marine Fisheries Service.

[FR Doc. E7-8544 Filed 5-3-07; 8:45 am]

BILLING CODE 3510-22-S